DEPARTMENT OF TRANSPORTATION

Federal Motor Carrier Safety Administration

[Docket No. FMCSA-2018-0278]

Agency Information Collection Activities; Emergency Approval of a Revision to a Currently-Approved Collection Request: Crime Prevention for Truckers

AGENCY: Federal Motor Carrier Safety Administration (FMCSA), Department of Transportation (DOT).

ACTION: Notice of request for emergency OMB approval.

SUMMARY: In compliance with the Paperwork Reduction Act (PRA) of 1995, this notice announces that a revision to the Information Collection Request (ICR) discussed below has been forwarded to the Office of Management and Budget (OMB) for review and emergency approval. FMCSA will no longer be offering a $25 incentive for those who complete the survey. FMCSA is also making non-substantive changes to the survey to make it easier to complete and to make the data collected more useful. The revised ICR describes the nature of the information collection and its expected paperwork burdens. FMCSA requests that OMB approve this collection by December 20, 2021.

DATES: Comments must be submitted on or before December 23, 2021.

ADDRESSES: Written comments and recommendations for the proposed information collection should be sent within by December 23, 2021 to www.reginfo.gov/public/do/PRAMain. All comments received are part of the public record. Comments will generally be posted without change. Upon receiving the requested emergency approval by OMB, FMCSA will follow the normal PRA procedures to renew the information collection at its expiration date.

FOR FURTHER INFORMATION CONTACT: Jeff Loftus, Division Chief, Technology Division, Department of Transportation, FMCSA, West Building, 6th Floor, 1200 New Jersey Avenue SE, Washington, DC 20590-0001; 202-385-2363; email: jeff.loftus@dot.gov.

SUPPLEMENTARY INFORMATION:

Title: Crime Prevention for Truckers.

OMB Control Number: 2126-0071.

Type of Request: Request for emergency approval for a revision to a currently-approved information collection.

Respondents: All truck drivers.

Estimated Total Respondents: 1,320.

Estimated Total Responses: 1,320.

Estimated Burden Hours: 416.

Estimated Burden per Response: 20 minutes per response.

Frequency: Once.

Background: OMB approved the “Crime Prevention for Truckers” collection on May 14, 2021. After receiving approval, FMCSA moved forward in implementing the survey.

Originally, the survey was planned to be an in-person data collection, but the project team switched to an online data collection because of the pandemic. Within hours of posting the survey online, it reached its maximum number of responses. This occurred before FMCSA was able to reach out to all desired women's trucking associations to encourage participation by their members, thus undermining the purpose of the survey. No rewards were paid by the agency.

All proposed changes to the questions are de minimis or non-substantive and are primarily driven by changes to some of the skip patterns in the survey to make coding them on the online survey platform (SurveyMonkey) possible. The changes do slightly increase the time burden on the respondents, as they will need to respond to more questions instead of having the survey skip ahead. However, this increase is minimal.

Public Comments Invited: You are asked to comment on any aspect of this information collection, including: (1) Whether the proposed collection is necessary for FMCSA to perform its functions; (2) the accuracy of the estimated burden; (3) ways for FMCSA to enhance the quality, usefulness, and clarity of the collected information; and (4) ways that the burden could be minimized without reducing the quality of the collected information.

Issued under the authority delegated in 49 CFR 1.87.
Thomas P. Keane,
Associate Administrator, Office of Research and Registration.

[FR Doc. 2021-27219 Filed 12-15-21; 8:45 am]

BILLING CODE 4910-EX-P